DEPARTMENT OF HEALTH AND HUMAN SERVICES

Solicitation of Written Comments To Inform Development of a National Youth Sports Strategy

AGENCY: Office of Disease Prevention and Health Promotion, Office of the Assistant Secretary for Health, Office of the Secretary, Department of Health and Human Services.

ACTION: Notice.

SUMMARY: The Department of Health and Human Services (HHS) solicits written comments from the public on specific topics and questions that will inform the development of the National Youth Sports Strategy.

DATES: Written comments will be accepted through 11:59 p.m. E.T. on April 1, 2019.

ADDRESSES: Written public comments will be accepted via email. Instructions for submitting comments are available on the internet at https://fitness.gov.

FOR FURTHER INFORMATION CONTACT: Katrina L. Piercy, Ph.D., R.D., Office of Disease Prevention and Health Promotion (ODPHP), Office of the Assistant Secretary for Health (OASH), HHS; 1101 Wootton Parkway, Suite LL-100; Rockville, MD 20852; Telephone: (240) 453-8280. Email: odphpinfo@hhs.gov.

SUPPLEMENTARY INFORMATION: Executive Order 13824 directs the development of a National Strategy on Youth Sports and outlines the key pillars that the strategy will address. The Office of Disease Prevention and Health Promotion and the President's Council on Sports, Fitness & Nutrition are leading the development of this strategy.

Key Pillars of Youth Sports Strategy

1. Increase awareness of the benefits of participation in sports and regular physical activity, as well as the importance of good nutrition;

2. Promote private and public sector strategies to increase participation in sports, encourage regular physical activity, and improve nutrition;

3. Develop metrics that gauge youth sports participation and physical activity to inform efforts that will improve participation in sports and regular physical activity among young Americans; and

4. Establish a national and local strategy to recruit volunteers who will encourage and support youth participation in sports and regular physical activity, through coaching, mentoring, teaching, or administering athletic and nutritional programs.

Written Public Comments: Written comments to inform the development of the strategy are encouraged from the public and will be accepted via email until 11:59 p.m. E.T. April 1, 2019. Instructions for submitting comments are available at https://fitness.gov. HHS requests that commenters respond to the questions posed on https://fitness.gov. A subsequent public comment period will open this summer to provide comments on the draft strategy report.

Dated: February 19, 2019.
Donald Wright,
Deputy Assistant Secretary for Health Disease Prevention and Health Promotion.

[FR Doc. 2019-03788 Filed 3-1-19; 8:45 am]

BILLING CODE 4150-32-P